DEPARTMENT OF COMMERCE

Foreign-Trade Zones Board

[Docket 7-2004]

Foreign-Trade Zone 201—Holyoke, MA; Application For Foreign-Trade Subzone Status, Hazen Paper Company (Paper Conversion), Holyoke, MA

An application has been submitted to the Foreign-Trade Zones Board (the Board) by the Holyoke Economic Development & Industrial Corporation, grantee of FTZ 201, requesting special-purpose subzone status for the warehousing and manufacturing facilities (paper conversion—the final product is “graphic arts quality base paper”) of the Hazen Paper Company (Hazen), located in Holyoke, Massachusetts. The application was submitted pursuant to the Foreign-Trade Zones Act, as amended (19 U.S.C. 81a-81u), and the regulations of the Board (15 CFR part 400). It was formally filed on March 8, 2004.

The Hazen facilities are located at four sites in Holyoke (9 acres total; 226,100 sq. ft. of enclosed space): Site #1—Headquarters Plant (4.2 acres; 106,000 sq. ft.)—240 South Water Street; Site #2—West Plant (1.7 acres; 68,000 sq. ft.)—210 South Water Street; Site #3—West Plant (1.1 acres; 39,000 sq. ft.)—717 Main Street; and Site #4—Sulco Warehouse (2 acres; 13,100 sq. ft. within 134,000 sq. ft. warehouse)—11 Berkshire Street.

The facilities (194 employees) may be used under FTZ procedures for warehousing and manufacturing activities—Hazen's manufacturing processes include laminating and coating (printing), embossing, rewinding/slitting, and sheeting/cutting. For Hazen's current manufacturing, foreign-sourced material accounts for 17 to 30 percent of finished-product value. The application indicates that the only material which may be sourced from abroad is graphic-arts quality aluminum foil (this falls into two tariff-schedule categories: With thickness not exceeding .01 millimeter, and with thickness exceeding .01 millimeter but less than .15 millimeter). The current duty rate for this input material is 5.8 percent.

Zone procedures would exempt Hazen from Customs duty payments on the foreign input when used in export production. On its domestic sales, Hazen would be able to defer duty payments, and to choose the lower duty rate that applies to the finished product's category (duty-free) for the foreign input listed above. Hazen would be able to avoid duty on foreign input which becomes scrap/waste, estimated at 14 percent of imported material. All of the above-cited savings from zone procedures could help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

The closing period for their receipt is May 17, 2004. Rebuttal comments in response to material submitted during the foregoing period may be submitted during the subsequent 15-day period to June 1, 2004.

A copy of the application and accompanying exhibits will be available for public inspection at the Office of the Foreign-Trade Zones Board's Executive Secretary at address Number 1 listed above, and at the Holyoke Economic Development & Industrial Corporation, One Court Plaza, Holyoke, MA 01040.

Dated: March 9, 2004.
Dennis Puccinelli,
Executive Secretary.

[FR Doc. 04-5922 Filed 3-15-04; 8:45 am]

BILLING CODE 3510-DS-P